DEPARTMENT OF AGRICULTURE

Forest Service

Superior National Forest, LaCroix Ranger District, MN; Border Project Environmental Impact Statement

AGENCY: Forest Service, USDA.

ACTION: Notice of Intent to Prepare an Environmental Impact Statement.

SUMMARY: The Department of Agriculture, Forest Service, will prepare an environmental impact statement (EIS) for the Border Project. The proposed activities would manage forest vegetation composition, structure, and spatial patterns. Proposed activities also address the transportation system associated with vegetation activities and long-term federal, non-federal, and public access needs.

The Project Area encompasses about 57,000 acres of National Forest System land. The Proposed Action would create young forest through timber harvest on about 8,617 acres; improve stand structure and within-stand diversity with harvests such as thinning on about 3,730 acres; and restore stand conditions without harvest on about 1,904 acres. Managing the minimum road system needed for long-term vegetation management would involve adding 1.6 miles of system road and decommissioning 9.2 miles of road. A range of alternatives, including a no-action alternative, will be developed to respond to significant issues. The proposed project is located on the LaCroix Ranger District, Cook, Minnesota, Superior National Forest.

DATES: Comments concerning the scope of the analysis must be received by March 10, 2008. The draft environmental impact statement is expected in summer 2008 and the final environmental impact statement is expected in winter 2008/2009.

ADDRESSES: Send written comments to Nancy S. Larson, LaCroix District Ranger, Border Project, 320 Hwy 53 North, Cook, MN 55723. Send electronic comments to comments-eastern-superior-la-croix@fs.fed.us.

FOR FURTHER INFORMATION CONTACT: Carol Booth, Border Project Coordinator, 320 Hwy 53 North, Cook, MN 55723; telephone (218) 666-0020.

SUPPLEMENTARY INFORMATION:

Purpose and Need for Action

The primary purpose of the Border Project is to move the area towards the vegetation and landscape ecosystem desired conditions described in the Superior National Forest Land and Resource Management Plan (Forest Plan). Forest Plan direction for the transportation system is also part of the project's purpose.

Proposed Action

The proposed Action would manage forest vegetation composition, structure, and spatial patterns and the transportation system associated with these activities. Proposed activities include: creating young forest approximately 8,617 acres, improving stand structure and within-stand diversity on approximately 3,730 acres, and restoring stand conditions through a variety of non-harvest activities such as planting, biomass removal, and conducting prescribed burns to reduce risk of wildfire on approximately 1,904 acres. Managing the minimum road system needed for long-term vegetation management would involve adding 1.6 miles of system road and decommissioning 9.2 miles of road.

Responsible Official

Nancy S. Larson, LaCroix District Ranger, 320 Hwy 53 North, Cook, MN 55723.

Nature of Decision To Be Made

An environmental analysis for the Border Project will evaluate site-specific issues, consider management alternatives, and analyze the potential effects of the proposed action and alternatives. The scope of the project is limited to decisions concerning activities within the Border Project Area that meet the Purpose and Need, as well as desired conditions. An environmental impact statement will provide the Responsible Official, Nancy S. Larson, with the information needed to decide which actions, if any, to approve.

Scoping Process

Public participation will be an integral component of the analysis process, and will be especially important at several points during the analysis. The first is during the scoping process. The Forest Service is seeking information, comments, and assistance from federal agencies, State agencies, local agencies, individuals, and organizations that may be interested or affected by the proposed activities. The scoping process will include: (1) Identification of potential issues, (2) identification of issues to be analyzed in depth, and (3) elimination of insignificant issues, or those which have been covered by a previous environmental review. Based on the results of scoping and the resource capabilities within the project area, alternatives, including a no-action alternative, will be developed for the draft environmental impact statement.

Permits or Licenses Required

Easement or permission to cross non-federal property may be needed to access some treatment units to implement Forest Service activities.

Comment Requested

This notice of intent initiates the scoping process which guides the development of the environmental impact statement. Written comments will be solicited through a scoping package that will be sent to the project mailing list. For the Forest Service to best use the scoping input, comments must be received by March 10, 2008. Include name, address, and title of the project with your comments.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: January 18, 2008.
Nancy S. Larson,
LaCroix District Ranger.

[FR Doc. 08-335 Filed 1-25-08; 8:45 am]

BILLING CODE 3410-11-M